DEPARTMENT OF COMMERCE

International Trade Administration

Notice of Solicitation of Requests for Modification of Tariff Rate Quotas on the Import of Certain Worsted Wool Fabrics

AGENCY: International Trade Administration, Department of Commerce.

ACTION: The Department of Commerce is soliciting requests for the modification of the limitations on the quantity of imports of certain worsted wool fabric under the 2002 tariff rate quotas established by the Trade and Development Act of 2000.

SUMMARY: The Department of Commerce (Department) hereby solicits requests for the modification of the limitations on the quantity of imports of certain worsted wool fabric under the 2002 tariff rate quotas established by the Trade and Development Act of 2000. To be considered, a request must be received or postmarked by 5:00 p.m. on October 1, 2001 and must comply with the requirement of 15 CFR part 340 (66 FR 6459, published January 22, 2001). If a request is received, the Department will solicit comments on the request in the Federal Register and provide a twenty day comment period. Thirty days after the end of the comment period, the Department will determine whether the limitations should be modified.

ADDRESS: Requests must be submitted to: Industry Assessment Division, Office of Textiles and Apparel, Room 3100, U.S. Department of Commerce, Washington, D.C. 20230. Six copies of any such requests must be provided.

FOR FURTHER INFORMATION CONTACT: Sergio Botero, Office of Textiles and Apparel, U.S. Department of Commerce, (202) 482-4058.

SUPPLEMENTARY INFORMATION:

Background

Title V of the Trade and Development Act of 2000 (the Act) creates two tariff rate quotas, providing for temporary reductions for three years in the import duties on two categories of worsted wool fabrics suitable for use in making suits, suit-type jackets, or trousers. For worsted wool fabric with average fiber diameters greater than 18.5 microns (Harmonized Tariff Schedule of the United States (HTS) heading 9902.51.11), the reduction in duty is limited to 2,500,000 square meter equivalents per year. For worsted wool fabric with average fiber diameters of 18.5 microns or less (HTS heading 9902.51.12), the reduction is limited to 1,500,000 square meter equivalents per year. Both these limitations may be modified by the President, not to exceed 1,000,000 square meter equivalents per year for each tariff rate quota.

The Act requires that the annual consideration of requests by U.S. manufacturers of men’s or boys’ worsted wool suits, suit-type jackets and trousers for modification of the limitation on the quantity of fabric that may be imported under the tariff rate quotas, and grants the President the authority to proclaim modifications to the limitations. In determining whether to modify the limitations, specified U.S. market conditions with respect to worsted wool fabric and worsted wool apparel must be considered. On January 22, 2001, the Department published regulations establishing procedures for considering requests for modification of the limitations, 66 FR 6459, 15 CFR part 340.

To be considered, requests must be submitted by a manufacturer of men’s or boys’ worsted wool suits, suit-type jackets, and trousers in the United States and must comply with the requirements of 15 CFR part 340.

A request must include: (1) The name, address, telephone number, fax number, and Internal Revenue Service number of the requester; (2) the relevant worsted wool apparel product(s) manufactured by the person(s), that is, worsted wool suits, worsted wool suit-type jackets, or worsted wool trousers; (3) the modification requested, including the amount of the modification and the limitation that is the subject of the request (HTS heading 9902.51.11 and/or 9902.51.12); and (4) a statement of the basis for the request, including all relevant facts and circumstances.

A request should include the following information for each limitation that is the subject of the request, to the extent available: (1) A list of suppliers from which the requester purchased domestically produced worsted wool fabric during the period July 1, 2000 to June 30, 2001, the dates of such purchases, the quantity purchased, the quantity of imported worsted wool fabric purchased, the countries of origin of the imported worsted wool fabric purchased, the average price paid per square meter of the domestically produced worsted wool fabric purchased, and the average price paid per square meter of the imported worsted wool fabric purchased; (2) a list of domestic worsted wool fabric producers that declined, on request, to sell worsted wool fabric to the requester during the period July 1, 2000 to June 30, 2001, indicating the product requested, the date of the order, the price quoted, and the reason for the refusal; (3) the requester’s domestic production and sales for the period January 1, 2001 to June 30, 2001 and the comparable six month period in the previous year, for each of the following products: worsted wool suits, worsted wool suit-type jackets, and worsted wool trousers; (4) evidence that the requester lost production or sales due to an inadequate supply of domestically-produced worsted wool fabric on a cost competitive basis; and (5) other evidence of the inability of domestic producers of worsted wool fabric to supply domestically produced worsted wool fabric to the requester.

Requests must be accompanied by a statement by the person submitting the request or comments (if a natural person), or an employee, officer or agent of the legal entity submitting the request, with personal knowledge of the matters set forth therein, certifying that the information contained therein is complete and accurate, signed and sworn before a Notary Public, and acknowledging that false representations to a federal agency may result in criminal penalties under federal law. Any business confidential information provided that is marked business confidential will be kept confidential and protected from disclosure to the full extent permitted by law. To the extent business confidential information is provided, a non-confidential submission should also be provided, in which business confidential information is summarized or, if necessary, deleted.

Dated: September 7, 2001.
Linda M. Conlin,
Assistant Secretary for Trade Development, Department of Commerce.

[FR Doc.01-23062 Filed 9-13-01; 8:45 am]

BILLING CODE 3510-DR-S